DEPARTMENT OF TRANSPORTATION

Coast Guard

33 CFR Part 117

[CGD07-03-018]

Drawbridge Operation Regulations; Ashley River, Charleston, SC

AGENCY: Coast Guard, DOT.

ACTION: Notice of temporary deviation from regulations.

SUMMARY: The Commander, Seventh Coast Guard District, has approved a temporary deviation from the regulations governing the operation of the Ashley River (US 17) drawbridges across the Ashley River, miles 2.4 and 2.5, Charleston, South Carolina. This temporary deviation allows the bridge owner or operator to keep all spans of the Ashley River drawbridges in the down or closed position for 16 days.

DATES: This temporary rule is effective from 7 a.m. on January 31, 2003 to 7 a.m. on February 15, 2003.

ADDRESSES: Material received from the public as well as documents indicated in this preamble as being available in the docket are part of docket [CGD07-03-018] and are available for inspection or copying at Commander (obr), Seventh Coast Guard District, Room 432, 909 S.E. 1st Avenue, Miami, Florida 33131-3050, between 7:30 a.m. and 4 p.m., Monday through Friday, except Federal holidays.

FOR FURTHER INFORMATION CONTACT: Mr. Michael Lieberum, Project Manager, Seventh Coast Guard District, Bridge Branch at (305) 415-6744.

SUPPLEMENTARY INFORMATION: The Ashley River (US 17) drawbridges across the Ashley River, miles 2.4 and 2.5 are double bascule leaf bridges, with vertical clearances of 14.0 feet at mean high water and horizontal clearances of 100 feet between fenders. The existing operating regulation in 33 CFR 117.915 requires the bridges to open on signal; except that, from 7 a.m. to 9 a.m. Monday through Friday and 4 p.m. to 7 p.m. daily, the draws need be opened only if at least 12 hours notice is given. The draws of either bridge shall open as soon as possible for the passage of vessels in an emergency involving danger to life or property.

On December 30, 2002, The Industrial Company (TLC), representing the South Carolina Department of Transportation, requested a temporary change to the operation of the Ashley River (US 17) drawbridges to allow them to complete the rehabilitation to the structure.

This deviation will have a limited impact on navigation as there is only one marina west of the structure and they have been notified by the contractor of the possible closure of the structure. Mariners have the opportunity to relocate the vessels that would require a bridge opening to one of the marinas located east of the structure.

The Commander, Seventh Coast Guard District has granted a temporary deviation from the operating requirements listed in 33 CFR 117.915 to allow The Industrial Company, representing the owner, to facilitate repairs to the bridge spans. Under this temporary deviation, the Ashley River drawbridges may remain closed to navigation from 7 a.m. on January 31, 2003, to 7 a.m. on February 15, 2003.

Dated: January 29, 2003.
Greg Shapley,
Chief, Bridge Administration, Seventh Coast Guard District.

[FR Doc. 03-3264 Filed 2-7-03; 8:45 am]

BILLING CODE 4910-15-P